DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and have been removed from the list of Specially Designated Nationals and Blocked Persons.

DATES: See Supplementary Information section for effective date.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On July 17, 2020, OFAC determined that the property and interests in property subject to U.S. jurisdiction of the following persons are unblocked and they have been removed from the SDN List under the relevant sanctions authorities listed below.

Individuals

1. LIRA JIRON, Bismarck Antonio (a.k.a. JIRON LIRA, Bismarck Antonio), Residencial Altos de Santo Domingo, Las Cuatro Esquinas, Managua, Nicaragua; 1 Cine Leon, 3 Cuadras al Norte 1/2 Cuadra al Oeste, Monsenor Lezcano, Managua, Nicaragua; Achuapa, Leon, Nicaragua; Petronic El Carmen, 7 C al Oeste y 2 1/2 C al Sur, Barrio Williams Fonseca, Esteli, Nicaragua; DOB 27 Apr 1973; POB Esteli, Nicaragua; Cedula No. 288-270473-0002Y (Nicaragua) (individual) [SDNTK].

2. ROMAN DOMINGUEZ, Erika, c/o TAURA S.A., Cali, Colombia; Cedula No. 66955540 (Colombia) (individual) [SDNT].

3. ISSA FAWAZ, Benny (a.k.a. ISSA FAUSE, Benny), Calle 12, No. 10-79, Maicao, La Guajira, Colombia; Calle 13, No. 7-49, Barrio El Centro, Maicao, La Guajira, Colombia; DOB 29 Sep 1974; POB Barranquilla, Colombia; Cedula No. 72204490 (Colombia); Passport 72204490 (Colombia) (individual) [SDNTK] (Linked To: YORUMA SHIPPING COMPANY, S.A.; Linked To: FAUSSE ISSA Y CIA. S. EN C.; Linked To: FAMILY FEDCO; Linked To: FEDCO IMPORT & EXPORT, S.A.; Linked To: MICRO EMPRESA ASHQUI).

4. JIMENEZ NARANJO, Carlos Mario (a.k.a. “MACACO”), Calle 10C No. 25-45, Medellin, Colombia; DOB 26 Feb 1966; POB Envigado, Antioquia, Colombia; Cedula No. 71671990 (Colombia); Passport AH521672 (Colombia); alt. Passport AE915378 (Colombia) (individual) [SDNT].

5. LONDONO VASQUEZ, Marco Julio, c/o ADMINISTRADORA GANADERA EL 45 LTDA., Medellin, Colombia; c/o CASA DEL GANADERO S.A., Medellin, Colombia; c/o INVERSIONES EL MOMENTO S.A., Medellin, Colombia; c/o SOCIEDAD MINERA GRIFOS S.A., El Bagre, Antioquia, Colombia; Carrera 63B No. 42-50, Medellin, Colombia; DOB 04 Dec 1955; POB Fredonia, Antioquia, Colombia; Cedula No. 15345634 (Colombia); Passport AG062408 (Colombia) (individual) [SDNT].

6. HERRERA RAMIREZ, Linda Nicolle, c/o INDUSTRIA AVICOLA PALMASECA S.A., Cali, Colombia (individual) [SDNT].

7. HERRERA RAMIREZ, Giselle, c/o AGROPECUARIA Y REFORESTADORA HERREBE LTDA., Cali, Colombia; c/o INDUSTRIA AVICOLA PALMASECA S.A., Cali, Colombia; c/o INVERSIONES HERREBE LTDA., Cali, Colombia (individual) [SDNT].

8. MEJIA MOLINA, Luis Bernardo, c/o BOSQUES DE AGUA SOCIEDAD POR ACCIONES SIMPLIFICADA, Medellin, Colombia; c/o BROKER CMS EL AGRARIO S.A., Envigado, Antioquia, Colombia; c/o FUMIGACIONES Y REPRESENTACIONES AGROPECUARIAS S.A., Medellin, Colombia; c/o LUIS B MEJIA ASOCIADOS Y CIA LTDA., Medellin, Colombia; c/o ROSEVILLE INVESTMENTS S.A., Panama; Calle 20 Sur No. 26C-140, Medellin, Colombia; DOB 18 Mar 1945; POB Envigado, Antioquia, Colombia; Cedula No. 4325882 (Colombia) (individual) [SDNT].

9. TOBON CALLE, Martha Elena, c/o FUMIGACIONES Y REPRESENTACIONES AGROPECUARIAS S.A., Medellin, Colombia; c/o LUIS B MEJIA ASOCIADOS Y CIA LTDA., Medellin, Colombia; Calle 20 Sur No. 26C-140, Medellin, Colombia; DOB 16 Mar 1962; Cedula No. 43035196 (Colombia) (individual) [SDNT].

Entities

1. FAMILY FEDCO, Calle 13, No. 14-36, Maicao, La Guajira, Colombia; NIT # 72204490-4 (Colombia) [SDNTK].

2. FAUSSE ISSA Y CIA. S. EN C., Calle 79 No. 44-34, Barranquilla, Colombia; NIT # 800061571-7 (Colombia) [SDNTK].

3. FEDCO IMPORT & EXPORT, S.A., La Calle 16 Avenue, Santa Isabel, P.O. Box 3114, Zona Libre, Colon, Panama; RUC # 660249-1-461129 (Panama) [SDNTK].

4. YORUMA SHIPPING COMPANY, S.A., Panama; RUC # 1420095-1-631618 (Panama) [SDNTK].

5. ADMINISTRADORA GANADERA EL 45 LTDA., Carrera 49 No. 61Sur-540 Bod. 137, Medellin, Colombia; Carrera 49A No. 48S-60 Bod. 102, Medellin, Colombia; NIT # 811038291-3 (Colombia) [SDNT].

6. CASA DEL GANADERO S.A., Almacen Troncal Principal la Costa Jardin, Caceres, Antioquia, Colombia; Carrera 49A No. 61Sur-540 Bod. 137, Medellin, Colombia; Carrera 49A No. 48Sur-60 Bod. 102, Medellin, Colombia; NIT # 811034345-4 (Colombia) [SDNT].

7. GANADERIA LUNA HERMANOS LTDA., Carrera 49 No. 61Sur-540, Medellin, Colombia; Carrera 49A No. 48S-60 Bod. 102, Medellin, Colombia; NIT # 811045931-8 (Colombia) [SDNT].

8. INVERSIONES EL MOMENTO S.A., Carrera 49 No. 61Sur-540, Medellin, Colombia; Carrera 49A No.48S-60 Bod. 102, Medellin, Colombia; NIT # 811030776-7 (Colombia) [SDNT].

9. INVERSIONES LICOM LTDA. (a.k.a. RESTAURANTE ANGUS BRANGUS), Carrera 42 No. 34-15, Medellin, Colombia; Carrera 45 No. 54-56, Via las Palmas, Medellin, Colombia; NIT # 811038211-4 (Colombia) [SDNT].

10. SOCIEDAD MINERA GRIFOS S.A., Avenida Rodrigo Mira Calle 53 Cras. 49 y 45, El Bagre, Antioquia, Colombia; Carrera 43 No. 1A Sur-29, Medellin, Colombia; NIT # 811033869-7 (Colombia) [SDNT].

11. TEJAR LA MOJOSA S.A., Corregimiento Piemonte, Vereda la Mojosa, Caceres, Antioquia, Colombia; Transversal 13 No. 20C-35, Caucasia, Antioquia, Colombia; NIT # 900110438-9 (Colombia) [SDNT].

12. BOSQUES DE AGUA SOCIEDAD POR ACCIONES SIMPLIFICADA, Carrera 43A No. 23-14, Medellin, Colombia; NIT # 900320463-4 (Colombia) [SDNT].

13. BROKER CMS EL AGRARIO S.A., Carrera 43A No. 23 Sur-15, Envigado, Antioquia, Colombia; NIT # 900185889-9 (Colombia) [SDNT].

14. FUMIGACIONES Y REPRESENTACIONES AGROPECUARIAS S.A. (a.k.a. FUMAGRO S.A.), Calle 11 Sur No. 29D-27 Suite 702, Medellin, Colombia; NIT # 890402231-1 (Colombia) [SDNT].

15. LUIS B MEJIA ASOCIADOS Y CIA LTDA., Calle 4 Sur No. 43A-195 oficina 117, Medellin, Colombia; NIT # 811040695-1 (Colombia) [SDNT].

16. ROSEVILLE INVESTMENTS S.A., Panama; RUC # 753808-1-480790-33 (Panama) [SDNT].

17. TREMAINE CORP., Panama; RUC # 808568-1-497226-92 (Panama) [SDNT].

Additionally, on July 17, 2020, OFAC updated the SDN List for the following person, whose property and interest in property continue to be blocked under the relevant sanctions authority listed below.

Individual

From: CASTRO JARAMILLO, Monica Maria, c/o COMERCIALIZADORA DE GANADO Y RENTAS DE CAPITAL S.A., Medellin, Colombia; c/o FUMIGACIONES Y REPRESENTACIONES AGROPECUARIAS S.A., Medellin, Colombia; c/o LUIS B MEJIA ASOCIADOS Y CIA LTDA., Medellin, Colombia; DOB 27 Oct 1971; Cedula No. 43574795 (Colombia); Passport AK476053 (Colombia) (individual) [SDNT].

To: CASTRO JARAMILLO, Monica Maria; DOB 27 Oct 1971; Cedula No. 43574795 (Colombia); Passport AK476053 (Colombia) (individual) [SDNT] (Linked To: COMERCIALIZADORA DE GANADO Y RENTAS DE CAPITAL S.A.)

Dated: July 17, 2020.
Gregory T. Gatjanis,
Associate Director, Office of Global Targeting, Office of Foreign Assets Control.

[FR Doc. 2020-15844 Filed 7-21-20; 8:45 am]

BILLING CODE 4810-AL-P